DEPARTMENT OF COMMERCE

International Trade Administration

[A-552-801]

Certain Frozen Fish Fillets From the Socialist Republic of Vietnam: Extension of Time Limit for Final Results of the Third Antidumping Duty Administrative Review

AGENCY: Import Administration, International Trade Administration, Department of Commerce.

EFFECTIVE DATE: January 23, 2008.

FOR FURTHER INFORMATION CONTACT: Catherine Bertrand, AD/CVD Operations, Office 9, Import Administration, International Trade Administration, U.S. Department of Commerce, 14th Street and Constitution Avenue, NW., Washington, DC 20230; telephone: (202) 482-3207.

Background

On August 31, 2007, the Department of Commerce (“Department”) issued the preliminary results of this administrative review. See Certain Frozen Fish Fillets from the Socialist Republic of Vietnam: Notice of Preliminary Results of the Third Antidumping Duty Administrative Review, 72 FR 53527 (September 19, 2007) (“Preliminary Results”). The final results are currently due on January 17, 2008.

Extension of Time Limits for Final Results

Section 751(a)(3)(A) of the Tariff Act of 1930, as amended (“Act”), and 19 CFR 351.211(b)(5) require the Department to issue the final results in an administrative review of an antidumping duty order 120 days after the date on which the preliminary results are published. The Department may, however, extend the deadline for completion of the final results of an administrative review to 180 days if it determines it is not practicable to complete the review within the foregoing time period. See section 751(a)(3)(A) of the Act and 19 CFR 351.213(h)(2).

The Department finds that it is not practicable to complete the final results in the administrative review of certain frozen fish fillets from Vietnam within this time limit. Specifically, the Department needs additional time to consider Respondent East Sea Foods Joint Venture Co., Ltd.'s responses. Additionally, the Department is extending the deadline for the final results to accommodate parties' public hearing requests so parties may address all issues. For the reasons noted above, we are extending the time for the completion of the final results of this review by 60 days to March 17, 2008.

This notice is published in accordance with section 751(a)(3)(A) of the Act and section 351.213(h)(2) of the Department's regulations.

Dated: January 15, 2008.
Stephen J. Claeys,
Deputy Assistant Secretary for Import Administration.

[FR Doc. E8-1107 Filed 1-22-08; 8:45 am]

BILLING CODE 3510-DS-P